DEPARTMENT OF LABOR

Office of the Secretary

Submission for OMB Review: Comment Request

October 2, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting Ira Mills at the Department of Labor on 202-693-4122 (this is not a toll-free number) or E-Mail: Mills.Ira@dol.gov. This ICR can also be accessed online at http://www.doleta.gov/OMBCN/OMBControlNumber.cfm.

Comments should be sent to Office of Information and Regulatory Affairs, Attn: OMB Desk Officer for ETA, Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: Revision of a currently approved collection.

Title: Financial and Program Reporting and Performance Standards System for Indian and Native American Programs Under Title I, Section 166 of the Workforce Investment Act (WIA).

OMB Number: 1205-0422.

Frequency: Quarterly.

Affected Public: State, Local or Tribal Government; not-for-profit institutions.

Type of Response: Recordkeeping and reporting.

Number of Respondents: 142.

Annual Responses: 20,197.

Average Response Time: 14 hours.

Total Annual Burden Hours: 83,510.

Total Annualized Capital/Startup Costs: 0.

Total Annual Costs (operating/maintaining systems or purchasing services): 0.

Description: This collection of information relates to the operation of employment and training programs for Indian and Native Americans under title I, Section 166 of the WIA. It also contains the basis of the new performance standards system for WIA section 166 grantees, which is used for program oversight, evaluation and performance assessment. Respondents are states and not-for-profit institutions.

Ira L. Mills,
Departmental Clearance Officer/Team Leader.

[FR Doc. E6-16633 Filed 10-6-06; 8:45 am]

BILLING CODE 4510-30-P